DEPARTMENT OF STATE

[Public Notice 10105]

Industry Advisory Group: Notice of Charter Renewal

The Department of State has approved the renewal of the charter for the Bureau of Overseas Buildings Operations' (OBO) Industry Advisory Group for an additional two-year period. The group's annual meeting is held in the Harry S Truman Building at the U.S. Department of State, located at 2201 C Street NW., Washington, DC. Each meeting is devoted to an exchange of ideas between OBO's senior management and the group members on issues relating to property management; site acquisition; project planning; design and engineering; construction; facility maintenance; and building operations. The meetings are open to the public and are subject to advance registration and provision of required security information. Procedures for registration are included with each meeting announcement, no later than fifteen business days before each meeting.

OBO's mission is to provide safe, secure and functional facilities that represent the U.S. government to the host nation and support our staff in the achievement of U.S. foreign policy objectives. These facilities represent American values and the best in American architecture, engineering, technology, sustainability, art, culture, and construction execution.

For further information, please contact Christine Foushee at 312-353-1242 or FousheeCT@state.gov.

William Moser,
Director, Acting, Overseas Buildings Operations, Department of State.

[FR Doc. 2017-18507 Filed 8-30-17; 8:45 am]

BILLING CODE 4710-51-P